DEPARTMENT OF STATE

[Public Notice: 9563]

Section 7058(c) Determination for Zika Virus

SUMMARY: Pursuant to section 7058(c) of the Department of State, Foreign Operations, and Related Appropriations Act, 2015 (Div. J, Pub. L. 113-235) and the authority delegated to her by the Secretary of State under Delegation of Authority 245-1, notice is hereby given that, on April 5, 2016, Deputy Secretary of State for Management and Resources Heather Higginbottom has determined that an international outbreak of the Zika virus is sustained, severe, and is spreading internationally, and that it is in the national interest to respond to the related Public Health Emergency of International Concern.

For Further Information, Please Contact: Aditi Nigam, U.S. Department of State, 2201 C Street NW., Washington, DC 20520, (202) 647-4029, nigama@state.gov.

SUPPLEMENTARY INFORMATION: Section 7058(c) of the Department of State, Foreign Operations, and Related Programs Appropriations Act, 2015 (Div. J, P.L. 113-235) provides that:

If the Secretary of State determines and reports to the Committees on Appropriations that an international infectious disease outbreak is sustained, severe, and is spreading internationally, or that it is in the national interest to respond to a Public Health Emergency of International Concern, funds made available under title III of this Act may be made available to combat such infectious disease or public health emergency: Provided, That funds made available pursuant to the authority of this subsection shall be subject to prior consultation with, and the regular notification procedures of, the Committees on Appropriations.

Exercising this authority with respect to the Zika virus outbreak allows funds made available in the bilateral economic assistance accounts in the Department of State, Foreign Operations, and Related Programs Appropriations Act, 2015 to be used to respond to the Zika outbreak.

Dated: May 10, 2016.
Jonathan A. Margolis,
Acting Deputy Assistant Secretary for Science, Technology and Health, Bureau of Oceans and International Environmental and Scientific Affairs.

[FR Doc. 2016-11624 Filed 5-16-16; 8:45 am]

BILLING CODE 4710-09-P